DEPARTMENT OF AGRICULTURE

Animal and Plant Health Inspection Service

9 CFR Part 71

[Docket No. 99-017-2]

RIN 0579-AB13

Blood and Tissue Collection at Slaughtering Establishments

AGENCY: Animal and Plant Health Inspection Service, USDA.

ACTION: Proposed rule; extension of comment period.

SUMMARY: We are extending the comment period for our proposed rule regarding the collection of blood and tissue samples at slaughtering establishments. In that document, we proposed, among other things, to establish requirements for the collection of blood and tissue samples from livestock (horses, cattle, bison, captive cervids, sheep and goats, swine, and other farm animals) and poultry at slaughtering establishments when it is necessary for disease surveillance. This action will allow interested persons additional time to prepare and submit comments.

DATES: We will consider all comments that we receive on or before March 28, 2003.

ADDRESSES: You may submit comments by postal mail/commercial delivery or by e-mail. If you use postal mail/commercial delivery, please send four copies of your comment (an original and three copies) to: Docket No. 99-017-1, Regulatory Analysis and Development, PPD, APHIS, Station 3C71, 4700 River Road Unit 118, Riverdale, MD 20737-1238. Please state that your comment refers to Docket No. 99-017-1. If you use e-mail, address your comment to regulations@aphis.usda.gov. Your comment must be contained in the body of your message; do not send attached files. Please include your name and address in your message and “Docket No. 99-017-1” on the subject line.

You may read any comments that we receive on Docket No. 99-017-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Adam Grow, National Animal Health Programs, VS, APHIS, 4700 River Road Unit 43, Riverdale, MD 20737-1231; (301) 734-4363.

SUPPLEMENTARY INFORMATION:

Background

On November 27, 2002, we published in the Federal Register (67 FR 70864-70875, Docket No. 99-017-1) a proposal to amend the regulations in 9 CFR part 71 to establish requirements for the collection of blood and tissue samples from livestock (horses, cattle, bison, captive cervids, sheep and goats, swine, and other farm animals) and poultry at slaughtering establishments when it is necessary for disease surveillance. We also proposed to require that livestock or poultry moved interstate for slaughter be moved only to a slaughtering establishment that has been listed by the Administrator and provided proposed criteria for the listing of establishments.

Comments on the proposed rule were required to be received on or before January 27, 2003. We are extending the comment period on Docket No. 99-017-1 for an additional 60 days, ending March 28, 2003. This action will allow interested persons additional time to prepare and submit comments.

Authority: 7 U.S.C. 8304-8306, 8308, 8310, 8313, and 8315; 7 CFR 2.22, 2.80, and 371.4.

Done in Washington, DC, this 21st day of January 2003.
Kevin Shea,
Acting Administrator, Animal and Plant Health Inspection Service.

[FR Doc. 03-1752 Filed 1-24-03; 8:45 am]

BILLING CODE 3410-34-P